DEPARTMENT OF HEALTH AND HUMAN SERVICES

Office of Inspector General

Program Exclusions: July 2003

AGENCY: Office of Inspector General, HHS.

ACTION: Notice of program exclusions.

During the month of July 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation Office of Inspector General—DHHS Case Investigation Management System For Press Release From 07/01/2003-07/31/2003

Subject name | Address | Effective date
Program-Related Convictions:
Loccisano, Gina Maria | Cranston, RI | 8/20/2003
McGovern, Dana E. | Port Charlotte, FL | 8/20/2003
McGovern's Ambulance Service, Inc. | Port Charlotte, FL | 8/20/2003
Okoye, Patrick C. | Montgomery, AL | 8/20/2003
Okoye, Godwin S. | Montgomery, AL | 8/20/2003
Capobianco, Leo J. | Las Vegas, NV | 8/20/2003
Khalatov, Leonid | Woodmere, NY | 8/20/2003
Dooley, Michael F. | Carthage, NY | 8/20/2003
Grim Thirty-Three, Inc. | Smithtown, NY | 8/20/2003
Grimaldi, John | Lake George, NY | 8/20/2003
JDS Ambulance Corp. | Woodmere, NY | 8/20/2003
Murphy Jr., James E. | Niverville, NY | 8/20/2003
Abrams, Barry | Flushing, NY | 8/20/2003
Sabot, Theodore J. | Pittsfield, MA | 8/20/2003
Houchins, Ednalee | S. Charleston, WV | 8/20/2003
Bellamy, Mary Elizabeth | Alderson, WV | 8/20/2003
Rancocas Valley Anesthesia Associates | Cinnaminson, NJ | 11/14/2002
Shearl, Cowan W. | Venice, FL | 8/20/2003
Horton, Anthony H. | Maulding, SC | 8/20/2003
Vigoreaux, Alejandro | Miami, FL | 8/20/2003
Ruiz, Roberto | Miami, FL | 8/20/2003
Smith, Karen L. | Miami, FL | 8/20/2003
Suber, Ramona | Jenkinsville, SC | 8/20/2003
Jones, Keshea T. | Jackson, TN | 8/20/2003
Horton, Sammie | Grenada, MS | 8/20/2003
Gilmore, Renee Lynn | Coleman, FL | 8/20/2003
Kwangwari, Ngoni Christopher | Miami, FL | 8/20/2003
Piperis, Stelios | Miami, FL | 8/20/2003
Lipton, Ross Howard | Miami Shores, FL | 8/20/2003
Mendez, Eduardo S. | Miami, FL | 8/20/2003
Hernandez, Jose R. | Miami, FL | 8/20/2003
Turner, Lisa | Enterprise, MS | 8/20/2003
Ogundiya, Deji | Hermitage, TN | 8/20/2003
Makins, Katetine C. | Laurens, SC | 8/20/2003
Buckmon, Natasha | Columbia, SC | 8/20/2003
Williams, Julius III | Stone Mountain, GA | 8/20/2003
Allen, Jack W. | Estill, SC | 8/20/2003
Redlich, Dale Palmer | Coral Springs, FL | 8/20/2003
Haught, Barry D. | Eglin AFB, FL | 8/20/2003
Nespeca, Thomas W. | Tampa, FL | 8/20/2003
Stursburg, Christopher C. | Valrico, FL | 8/20/2003
David M. Moss, DPM, P C | Garden City, MI | 8/20/2003
Jackson, Wayne D. | Detroit, MI | 8/20/2003
Parker, Kenneth R. | Akron, OH | 8/20/2003
Miller, Susan M. | Elkhart, IL | 8/20/2003
Weldy, Dennis K. | Bristol, IN | 8/20/2003
Devore, Marla A. | Springfield, IL | 8/20/2003
Mlodzik, Mary Beth | Princeton, WI | 8/20/2003
Hermann, Rachel | Troy, OH | 8/20/2003
Black, Dominica C. | Columbus, OH | 8/20/2003
Smith, Calvert H. Jr. | Cincinnati, OH | 8/20/2003
Ebert, Heather R. | Mount Gilead, OH | 8/20/2003
Propelled Therapeutic Services | Detroit, MI | 8/20/2003
Comprehensive Outpatient SVCS | Cleveland, OH | 8/20/2003
Gallo, Angelo M. | Wiloughby, OH | 8/20/2003
Gallo, Mark A. | Grafton, OH | 8/20/2003
Mitrione, Robert T. | Yankton, SD | 8/20/2003
Henderson, Martisa B. | Rayville, LA | 8/20/2003
Phillips, Raymond Rene | Jonesboro, LA | 8/20/2003
Billings, Arthur N. | Missouri, TX | 8/20/2003
Daniel, Kristina Lea | Fort Lupton, CO | 8/20/2003
Drake, Sherman Howard | Casper, WY | 8/20/2003
Fluegel, Eric Michael | Aurora, CO | 8/20/2003
Dupont, Robert Joseph Jr. | Leavenworth, KS | 8/20/2003
Garwood, Jan Dierks | Yankton, SD | 8/20/2003
Householder, Karl Otis | Leavenworth, KS | 8/20/2003
Liveoak, Kelley Anne | Greenville, IL | 8/20/2003
Dinkmeier, Lou Ann | Lamar, MO | 8/20/2003
Bazazzadegan, Julia Elaine | Forth Worth, TX | 8/20/2003
Wimbley, Mary E. | St Louis, MO | 8/20/2003
Stepanyan, Arthur | Studio City, CA | 8/20/2003
Daniels, Karen Ann | Sacramento, CA | 8/20/2003
Stepanian, Asmik | Van Nuys, CA | 8/20/2003
Cancio, Meneleo Cometa | Lompoc, CA | 8/20/2003
Cancio, Raul Cometa | Eloy, AZ | 8/20/2003
Mikayelyan, Rafik | Terminal Island, CA | 8/20/2003
Urfalian, Sarkis | Altadena, CA | 8/20/2003
Gottlieb, Jeffrey | Florence, AZ | 8/20/2003
Berkovich, Lora | Long Beach, CA | 8/20/2003
Yengibaryan, Sarkis | Eloy, CA | 8/20/2003
Kaniadakis, Steven J. | Pensacola, FL | 8/20/2003
Penniman, Vernanell Gibson | Azuza, CA | 8/20/2003
White, Vance King | Los Angeles, CA | 8/20/2003
Taylor, Gary W. | Los Angeles, CA | 8/20/2003
Kioutouian, Ambartsoum | Hollywood, CA | 8/20/2003
Chem, Phalla | Long Beach, CA | 8/20/2003
Lewandowski, Rebecca Lynn | Klamath Falls, OR | 5/2/2003
Bassey, Kristine A. | Anaheim, CA | 5/20/2003
Lopez, Myrna Ramos | Chowchilla, CA | 8/20/2003
Lopez, Benjamin Pineda | Soledad, CA | 8/20/2003
Lewandowski, Jennifer Ann | Long Beach, CA | 8/20/2003
Ndemba, Jackson Ntone | Los Angeles, CA | 8/20/2003
Johnson, Willie Lee | Riverside, CA | 8/20/2003
Ahmed, Saeed | Wasco State Prison, CA | 8/20/2003
Ahmed, Bilal | Wasco, CA | 8/20/2003
Gabriel, Gabriel | La Puente, CA | 8/20/2003
Farzad, Philip | Encino, CA | 8/20/2003
Chelzinger, Micha | Tarzana, CA | 8/20/2003
Kopilevich, Mikhail | Woodland Hills, CA | 8/20/2003
Tsatourova, Inga | Dublin, CA | 8/20/2003
Felony Conviction for Health Care Fraud:
Orlander, Andrew | Eglin AFB, FL | 8/20/2003
Desimone, Erik David | Tucker, GA | 8/20/2003
Minarcik, John Robert | Skokie, FL | 8/20/2003
Silvestro, Caroline L. | Mentor, OH | 8/20/2003
Leon, Frank A. Jr. | Lorain, OH | 8/20/2003
Nielsen, LA | Junta, CO | 8/20/2003
Katherine Marie | La Junta, CO | 8/20/2003
Brown, Glenn Cecil | Alpine, UT | 8/20/2003
Klink, Loretta Lee | Auburn, CA | 8/20/2003
Romano, Laurie C. | South Bend, IN | 8/20/2003
Felony Control Substance Conviction:
Garland, Tami A. | Danbury, CT | 8/20/2003
Nicholson, Lisa F. | Pensacola, FL | 8/20/2003
Sproul, Melanie Laree | Marianna, FL | 8/20/2003
Key, Rebecca Lynn | Anderson, SC | 8/20/2003
Mattera, Dianna Lynn | Tallahassee, FL | 8/20/2003
Jones, Nina J. | Sparta, TN | 8/20/2003
Lowe, Wanda Kay | Pleasant View, TN | 8/20/2003
King, Vicky M. | Mooresburg, TN | 8/20/2003
Imhoff, Patricia Suzanne | Phoenix, AZ | 8/20/2003
Erb, Christopher John | W. Palm Beach, FL | 8/20/2003
Daniels, Kim | Tazewell, TN | 8/20/2003
Myers, Lisa Cheryl | Lithonia, GA | 8/20/2003
Scheidler, Joseph Stanley | Hamiton, OH | 8/20/2003
Tomko, John R. | Hubbard, OH | 8/20/2003
Moliere-Cosse, Reachenelle | Marrero, La | 8/20/2003
McCaa, Tammie Gilbreath | Ruston, LA | 8/20/2003
Littell, Sandra Jane | Houston, TX | 8/20/2003
Houston, Donald | Salt Lake City, UT | 8/20/2003
Clise, Richard Keith | Fort Morgan, CO | 8/20/2003
Evans, Eric Allen | Salt Lake City, UT | 8/20/2003
Boyette, Carl Jeffrey | Chico, CA | 8/20/2003
Patient Abuse/Neglect Convictions:
Vasiliu, Vasilios | Glen Head, NY | 8/20/2003
Brice, Mark D. | Tonawanda, NY | 8/20/2003
Caulfield, Sharon A. | Ballston Lake, NY | 8/20/2003
Rendon, Jairo | Malone, NY | 8/20/2003
Correa, Johanna | Rochester, NY | 8/20/2003
Guzman, Rudles Francis | Brooklyn, NY | 8/20/2003
Hykes, Lisa | Okolona, MS | 8/20/2003
Matthews, Kesha | Brooklyn, NY | 8/20/2003
Cornelius, Cynthia | Jackson, MS | 8/20/2003
Caldwell, Johnnie M. | Newberry, SC | 8/20/2003
Jimenez, Henry | Orlando, FL | 8/20/2003
St John, Sharon A. | Clifton, CO | 8/20/2003
Gill, Rodney P. | Akron, OH | 8/20/2003
Benoit, Leakisha Renee | Lafayette, LA | 8/20/2003
Panoske, Jason B. | Okemah, OK | 8/20/2003
Marshall, Victoria K. | Del City, OK | 8/20/2003
Phillips, Darren Wayne | Pineville, LA | 8/20/2003
Milea, Adrian Valeriu | Salt Lake City, UT | 8/20/2003
Coy, Heather Renee | Rye, CO | 8/20/2003
French, Lyle Reid | Louisville, CO | 8/20/2003
Willard, Karl Terrell | Bowling Green, MO | 8/20/2003
Landreneau, Michael Douglas | St. Joseph, MO | 8/20/2003
Vinzant, Robin Renee | Mitchellville, IA | 8/20/2003
Castillo, Julio Cesar | Kent, WA | 8/20/2003
Neault, Charles Carey | Temecula, CA | 8/20/2003
Hussain, Sheila Kay | Kingman, AZ | 8/20/2003
Hussain, Rashida Khattoon | Kingman, AZ | 8/20/2003
Goodman, Rebecca Kaye | N. Las Vegas, NV | 8/20/2003
Smith, Dolores | Phoenix, AZ | 8/20/2003
Conviction For Health Care Fraud:
Frede, Michael Dennis | Hazelwood, MO | 8/20/2003
Conviction-Obstruction Of An Investigation:
Nahas, Frederick J. | Longport, NJ | 8/20/2003
Controlled Substance Convictions:
Comito, Lee Ann | Utica, NY | 8/20/2003
Garza, Pamela Irene | Crow Agency, MT | 8/20/2003
License Revocation/Suspension/Surrendered:
Sullivan, Colleen A. | Saugus, MA | 8/20/2003
Timons, Jodie Lynn | Brookfield, MA | 8/20/2003
Claire, Kelly | Rutland, MA | 8/20/2003
Green, Joyce D. | Woodbine, NJ | 8/20/2003
McIntyre, John G. Jr. | Raritan, NJ | 8/20/2003
Difasi, Linda C | Syracuse, NY | 8/20/2003
Pierre, Lovely Jeudy | Queens Village, NY | 8/20/2003
Harris-Poole, Irene | Voorhees, NJ | 8/20/2003
Lawler, Paul J. | Altamont, NY | 8/20/2003
Dutton, Jimmy Lee | Mt. Vernon, NY | 8/20/2003
McClernon, June Law | Yardley, PA | 8/20/2003
Kassell, Eleanor A. | Baden, PA | 8/20/2003
Albrecht, Frank M. | Easton, MD | 8/20/2003
Deptula, Richard | Ellicott City, MD | 8/20/2003
Graffum, Ann E. | Richmond, VA | 8/20/2003
Whitlock, Aimee D. | Charleston, WV | 8/20/2003
Young, Denise | Williamsport, PA | 8/20/2003
Russell, Janet Marie | Chinchilla, PA | 8/20/2003
Hammond, Deborah | Hollidaysburg, PA | 8/20/2003
Donovan, Keith R. | Adelphi, MD | 8/20/2003
Cantrell, Patricia A. | Inman, SC | 8/20/2003
Weeks, William W. | Winter Haven, FL | 8/20/2003
McQuaig, James Edward | St. Augustine, FL | 8/20/2003
Murphy, Lonnie | Miami, FL | 8/20/2003
Scott, Erica L. | Jackson, MS | 8/20/2003
Guidry, Karen Mary | Arcadia, FL | 8/20/2003
Humphreys, Janie F. | Pearl, MS | 8/20/2003
Posey, Lisa | Terry, MS | 8/20/2003
Stokes, Joseph Michael | Greenwood, MS | 8/20/2003
Dawson, Tracie Lynn | Birmingham, AL | 8/20/2003
Lonie, Paula R. | Lyles, TN | 8/20/2003
Qualls, Mia L. | Savannah, TN | 8/20/2003
Walker, Tammy | Nashville, TN | 8/20/2003
Bowen, Vickie | Collins, MS | 8/20/2003
Walker, Thomas A. | Meridian, MS | 8/20/2003
Burns, Jackie A. | Ridgeland, MS | 8/20/2003
Perdomo, Onelio E. | Gadsden, AL | 8/20/2003
Cheatham, Sheryle D. | Shawnee, TN | 8/20/2003
Butler, Misti D. | Oak Ridge, TN | 8/20/2003
Boone, Ronald C. | Hermitage, TN | 8/20/2003
Boone, Lisa | Gallatin, TN | 8/20/2003
O'Brian, Melodye A. | Lantana, FL | 8/20/2003
Belville-Coates, Sarah | Brandon, FL | 8/20/2003
Hildreth, Holly Anne | High Springs, FL | 8/20/2003
Rankine, Coral Elonz | Flagler Beach, FL | 8/20/2003
Rundell, Jennifer Faith | Ocala, FL | 8/20/2003
Williams, Kimberly Susan | Lantana, FL | 8/20/2003
Griffin, Marjorie | Lakeland, FL | 8/20/2003
Lund, Phyllis Looby | Key West, FL | 8/20/2003
Moulton, Laurie Abby | Naples, FL | 8/20/2003
Freed, Chrystal | Ft. Myers, FL | 8/20/2003
Fitzgerald, Donna Gibson | Estero, FL | 8/20/2003
O'Donnell, Carol Janet | Port Orange, FL | 8/20/2003
Onieal, Jennifer I. | Brandon, FL | 8/20/2003
Srinivasan, Govind | Deltona, FL | 8/20/2003
Phillips, James Winston | Boynton Beach, FL | 8/20/2003
Madrigal, Jayma M. | Morristown, TN | 8/20/2003
Miller, Kimberly M. | Kingsport, TN | 8/20/2003
Hall, Dixielee L. | Vero Beach, FL | 8/20/2003
Giovino, Laura Glassgow | Dunedin, FL | 8/20/2003
Hintz, Gigi T. | Clearwater, FL | 8/20/2003
Jackson, Margaret | Punta Gorda, FL | 8/20/2003
Warren, Stephanie | Centerville, TN | 8/20/2003
Pence, Cretia | Bradyville, TN | 8/20/2003
Crispin, Jeanette | Cautier, MS | 8/20/2003
Doyle, Kay S. | Vicksburg, MS | 8/20/2003
Galipault, Jane | Lakeland, FL | 8/20/2003
Duncan, Thomasa Joyce | Frostproof, FL | 8/20/2003
Donaldson, Dora Elisa | Chuluota, FL | 8/20/2003
Belaga, Natalie Elizabeth | University Park, FL | 8/20/2003
Brant, Patricia Jo | Pensacola, FL | 8/20/2003
Citera-Dowler, Francine | Hollywood, FL | 8/20/2003
Cook, Donald Clarence | Green Acres, FL | 8/20/2003
Tindle, Lisa A. | Raleigh, NC | 8/20/2003
Wisnewski-Jones, Tina | West Melbourne, FL | 8/20/2003
Milbut, Deborah Lynne | Boca Raton, FL | 8/20/2003
Ford-Hayes, Christopher E. | Orlando, FL | 8/20/2003
Ross, Cornelia R. | Nashville, TN | 8/20/2003
Feazell, Christopher A. | Cookeville, TN | 8/20/2003
Stallings, Marcella | Cookeville, TN | 8/20/2003
Morton, Aileen | Alcoa, TN | 8/20/2003
McLaughlin, Ginger C. | Hendersonville, TN | 8/20/2003
Padawer, Jan E. | Memphis, TN | 8/20/2003
Richardson, Gilbert A. | Defuniak Springs, FL | 8/20/2003
Wells, Judy E. Muncie | Winchester, KY | 8/20/2003
Johnson, Stacey Marie Cavote | The Plains, OH | 8/20/2003
Billingsley, Renee | Prattville, AL | 8/20/2003
Malcomb, Sheila Rebecca Holland | Trussville, AL | 8/20/2003
Blakeney, Sherry Jean McManus | Sweetwater, AL | 8/20/2003
Estok, Mary | Spring Hill, FL | 8/20/2003
Arandia, Rodrigo S. | Chicago, IL | 8/20/2003
Smith, Dannelly C. | Wyandotte, MI | 8/20/2003
Sone, Janet Lee | Portage, IN | 8/20/2003
Kay, William Ezra | Pepper Pike, OH | 8/20/2003
Linnemann, Bruce Michael | Cincinnati, OH | 8/20/2003
Cusma, Joseph A. | Massillon, OH | 8/20/2003
Wojcik, David G. | Elgin, IL | 8/20/2003
Veach, Caroline S. | Oakland, IL | 8/20/2003
Steele, Jacqueline E. | Chicago, IL | 8/20/2003
Sears, Jennifer L. | Champaign, IL | 8/20/2003
Blackmond, Antonio | Chicago, IL | 8/20/2003
Barron, Joel | Glendale, AZ | 8/20/2003
Brown, Lakisha Antonette | Champaign, IL | 8/20/2003
Anderson, Tisha L. | Rockford, IL | 8/20/2003
Aalders, Nancy Block | Oak Lawn, IL | 8/20/2003
Davidson, Mysti D. | Roamoke, TX | 8/20/2003
Jones, Karen Denise | Marrero, LA | 8/20/2003
Wood, Lisa Kathleen Adair | Little Rock, AR | 8/20/2003
Hebert, Daphne Brook | Kaplan, LA | 8/20/2003
Chandler, Mary Katherine | Shreveport, LA | 8/20/2003
Jones, Leslie Adele | Metairie, LA | 8/20/2003
Downs, Doris Irene | Marthaville, LA | 8/20/2003
Hart, Dillis Leroy | Boise City, OK | 8/20/2003
Snyder, Gary Lee | Littleton, CO | 8/20/2003
Skuza, Richard S. | Colorado Sprngs, CO | 8/20/2003
Noipermpoon, Samaporn | Aurora, CO | 8/20/2003
King, Rochelle Shavon | Topeka, KS | 8/20/2003
Wambeke, Florence | Rapid City, SD | 8/20/2003
Reilly, Seth | Thermopolis, WY | 8/20/2003
Rose, Linda | Meeteetse, WY | 8/20/2003
Thornton, Michael Kent | St. Peters, MO | 8/20/2003
Ellis, Brian J. | Springfield, MO | 8/20/2003
Villarreal, Reinalda R. | Collbran, CO | 8/20/2003
Moore, Staci L. | Pleasant Hill, MO | 8/20/2003
Curl, Denise M. | Dubuque, IA | 8/20/2003
King, Teressa A. | Yreka, CA | 8/20/2003
Du, John Zheng | Sacramento, CA | 8/20/2003
Body Care Center, Clinic | Costa Mesa, CA | 8/20/2003
Lacy, Karen N. | Pasadena, CA | 8/20/2003
Freed, Stephen W. | Idaho Falls, ID | 8/20/2003
Wise, Leslie Eugene | Newport Beach, CA | 8/20/2003
Maslana, Joanne Elizabeth | Tucson, AZ | 8/20/2003
Peters, Katherine | Escondido, CA | 8/20/2003
McGee-Jones, Barbara Dale | Del Mar, CA | 8/20/2003
Jesse, Rosalie C. | El Cajon, CA | 8/20/2003
Weaver, Deanna E. | Tucson, AZ | 8/20/2003
Doyle, Wendy Ann | La Crescenta, CA | 8/20/2003
Schave, Barbara | Beverly Hills, CA | 8/20/2003
Arias, Kerry Lynn | Tucson, AZ | 8/20/2003
Himalaya, Jolyn | Rancho Palos Verdes, CA | 8/20/2003
Fraud/Kickbacks:
Weinstein, Leonard | Monroe TWP, NJ | 5/29/2003
Owned/Controlled by Convicted Entities:
BGF Transportation, Inc. | Brooklyn, NY | 8/20/2003
M & D Family Pharmacy, Inc. | Rego Park, NY | 8/20/2003
Kendall Behavioral Healthcare Ctr, Inc. | Coleman, FL | 8/20/2003
Kendall Physical Theraphy Ctr, Inc. | Miami, FL | 8/20/2003
Chuck's Super Rite Drugs, Inc. | Atlanta, GA | 8/20/2003
Behavioral Health Providers | Estill, SC | 8/20/2003
Arlington House, Inc. | Estill, SC | 8/20/2003
West Miami Medical Supply, Inc. | Tallahassee, FL | 8/20/2003
Ready Medical Equipment Corp. | Tallahassee, FL | 8/20/2003
Sunshine Medical Enterprise Group, Inc. | Miami, FL | 8/20/2003
Advanced Family Dental Care | Idaho Falls, ID | 8/20/2003
Health Pro Medical Labs | La Habra, CA | 8/20/2003
Joseph E. Cobbs Chiropractic | San Diego, CA | 8/20/2003
Chiro ACU Center | Garden Grove, CA | 8/20/2003
Default on Heal Loan:
Clark, Freeman L. | Eglin AFB, FL | 5/16/2003
Bowers, John Benjamin | Haysville, KS | 8/20/2003
Davis, Georgia A. | Randallstown, MD | 6/12/2003
Mark, Jeffrey | Portland, OR | 7/16/2003
Doyle, Timothy P. | Bellevue, WA | 7/22/2003
Strong-Fields, Michelle A. | Philadelphia, PA | 6/23/2003

Dated: September 3, 2003.
Katherine B. Petrowski,
Director, Exclusions Staff, Office of Inspector General.

[FR Doc. 03-23637 Filed 9-16-03; 8:45 am]

BILLING CODE 4150-04-P